DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

New Tumor Suppressor Gene, p28ING5

Dr. Curtis C. Harris et al. (NCI)

DHHS Reference No. E-300-01/0 filed January 23, 2001

Licensing Contact: Catherine Joyce; 301/496-7735 ext. 258; e-mail: joycec@od.nih.gov

This technology pertains to the discovery of a new member of the ING (inhibitor growth) family of putative tumor suppressor genes, p28ING5. p28ING5 was identified by homology to the tumor suppressor gene p33ING1. Over-expression of the ING5 protein causes cell cycle arrest in human cancer cell lines and ING5 expression varies between cancer cell lines. Detection of ING5 gene or protein expression could potentially be used for cancer diagnosis and ING5 could be used as a medicant.

The above-mentioned invention is available for licensing on an exclusive or non-exclusive basis.

HGC-1, A Gene Encoding a Member of the Olfactomedin-Related Protein Family

Griffin P. Rodgers, Wen-Li Liu, Jiachang Zhang (NIDDK)

U.S. Provisional Patent Application 60/338,759 (E-166-01/0) filed December 7, 2001

Licensing Contact: Brenda Hefti; 301/496-7736 ext. 206; e-mail: heftib@od.nih.gov

The current technology embodies a newly identified gene, Human Granulocyte Colony-Stimulating Factor-Stimulated-Clone-1 (hGC-1) that has been cloned and characterized, and its protein sequence has been deduced. The gene is expressed in the bone marrow, prostate, small intestine, colon, and stomach, and has been mapped to chromosome 13 in a region that contains a tumor suppressor gene cluster. The gene is found to be selectively present in normal human myeloid lineage cells and is believed to play a role in allowing lymphocytes to differentiate properly. It is believed that the gene may be used as a selective marker for human prostate cancer, multiple myeloma, B-cell chronic lymphocytic leukemia and other types of cancer and can be used diagnostically as well as in therapeutic screening activities.

Modulating IL-13 Activity Using Mutated Il-13 Molecules That Are Antagonists or Agonists of IL-13

R. Puri, Y. Oshima, and B. Joshi (FDA)

PCT Application PCT/US00/31044 (E-032-00/2) filed November 10, 2000, and claiming priority to a U.S. Provisional application filed November 11, 1999

Licensing Contact: Brenda Hefti; 301/496-7736 ext. 206; e-mail: heftib@od.nih.gov

The present invention provides antagonists and agonists of IL-13 activity. The antagonists can be used to reduce or end symptoms in conditions, such as asthma, allergic rhinitis, atopic dermatitis, parasitic infections, pulmonary fibrosis, and others in which IL-13 is an initiator, mediator or enhancer of the abnormal state. The agonists can also be used as reagents in the maturation of monocytes into dendritic cells, or to pre-treat bone marrow stem cell donors to reduce GVH disease. The antagonists can be used to slow the growth of cells in cancers for which IL-13 is an autocrine growth factor.

This invention also claims IL-13 receptor binding molecules with affinity for the IL-13 receptor at least three times greater than that exhibited by wild type IL-13. Finally, this invention claims methods and compositions for specifically delivering an effector molecule to a tumor cell by chimeric molecules comprising the effector molecule (plant or bacterial toxin, chemotherapeutic agents or antibiotics) and an IL-13 receptor binding molecule (antagonists or agonists), and pharmaceutical compositions thereof.

Dated: September 12, 2002.
Jack Spiegel,
Director, Division of Technology Development and Transfer, Office of Technology Transfer, National Institutes of Health.

[FR Doc. 02-23875 Filed 9-19-02; 8:45 am]

BILLING CODE 4140-01-P